DEPARTMENT OF ENERGY

Federal Energy Regulatory Commission

[Docket No. CP10-29-000]

Gulf South Pipeline Company, LP; Notice of Request under Blanket Authorization

December 16, 2009.

Take notice that on December 14, 2009, Gulf South Pipeline Company, LP (Gulf South), 9 Greenway Plaza, Suite 2800, Houston, Texas 77046, filed in Docket No. CP10-29-000, a prior notice request pursuant to sections 157.205 and 157.216 of the Federal Energy Regulatory Commission's regulations under the Natural Gas Act for authorization to abandon, by removal, certain facilities located at its Lafayette Compressor Station, located in Lafayette Parish, Louisiana, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Gulf South proposes to remove all aboveground facilities down to and including removal of their concrete foundations at the Lafayette Compressor Station. Gulf South Proposes to abandon by removal four inactive Clark HBA-5-1,100 horsepower reciprocating compressors, the main compressor building including foundations, the suction and discharge piping, and associated valves and appurtenances. Gulf South states that this proposal will reduce maintenance obligations currently required for the out-of-service facilities. Gulf South asserts that the Lafayette Compressor Station has not been utilized since 2001 and has been abandoned in place since 2005. Gulf South avers that the proposed abandonment by physical removal will have no effect on capacities and services.

Any questions regarding the application should be directed to M. L. Gutierrez, Project Director, Gulf South Pipeline Company, LP, 9 Greenway Plaza, Suite 2800, Houston, Texas 77046, telephone (713) 479-8252, or by e-mail: nell.gutierrez@bwpmlp.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a) (1) (iii) and the instructions on the Commission's Web site (http://www.ferc.gov) under the “e-Filing” link.

Kimberly D. Bose,
Secretary.

[FR Doc. E9-30457 Filed 12-22-09; 8:45 am]

BILLING CODE 6717-01-P